ENVIRONMENTAL PROTECTION AGENCY

[FRL-6541-7]

Proposed Prospective Purchaser Agreement Pursuant to the Comprehensive Environmental Response, Compensation, and Liability Act (CERCLA), as Amended by the Superfund Amendments and Reauthorization Act—Idaho Springs, CO

AGENCY: Environmental Protection Agency.

ACTION: Notice and request for public comment.

SUMMARY: Notice is hereby given of a proposed Prospective Purchaser Agreement concerning the Big Five Waste Rock Pile which is a part of the Clear Creek/Central City, Colorado Superfund Site (Site). The proposed Administrative Agreement and Covenant Not to Sue, also known as a Prospective Purchaser Agreement (PPA), enables the City of Idaho Springs, Colorado to buy contaminated property without incurring liability for the current contamination.

DATES: Comments must be submitted by March 9, 2000.

ADDRESSES: The proposed settlement is available for public inspection at the EPA Superfund Record Center, 999 18th Street, 5th Floor, North Tower, Denver, Colorado. Comments should be addressed to Kelcey Land, Enforcement Specialist, (8ENF-T), U.S. Environmental Protection Agency, 999 18th Street, Suite 500, Denver, Colorado, 80202-2405, and should reference the Clear Creek/Central City site Prospective Purchaser Agreement (EPA Docket No. CERCLA-8-2000-06).

FOR FURTHER INFORMATION CONTACT: Kelcey Land, Enforcement Specialist, at (303) 312-6393.

SUPPLEMENTARY INFORMATION: Notice of Prospective Purchaser Agreement: notice is hereby given that the terms of an Administrative Agreement and Covenant Not to Sue, also known as a Prospective Purchaser Agreement (PPA) have been agreed to by the City of Idaho Springs, the State of Colorado and the Environmental Protection Agency.

The proposed PPA will allow the City of Idaho Springs, Colorado to purchase certain property on the western edge of Idaho Springs which is a part of the Clear Creek/Central City Superfund Site. The property in question is known as the Big Five Waste Rock Pile which was contaminated by mining waste in the early 1900's. The State and EPA are currently financing a cleanup of the Big Five Waste Rock Pile. The PPA allows the City of Idaho Springs to purchase the property without incurring liability for the existing contamination. The City intends to use the property as part of a bicycle and pedestrian path. In exchange for the covenants, the City has agreed to perform maintenance activities to ensure the protectiveness of the remedy implemented by the State and EPA.

For a period of fifteen (15) days from the date of this publication, the public may submit comments to EPA relating to this proposed Prospective Purchaser Agreement.

A copy of the proposed agreement may be obtained from Kelcey Land (8ENF-T), U.S. Environmental Protection Agency, Region VIII, 999 18th Street, Suite 500, Colorado 80202-2405, (303) 312-6393. Additional background information relating to the agreement is available for review at the Superfund Records Center at the above address.

It is So Agreed:

Jack W. McGraw,
Acting Regional Administrator, Region VIII.

[FR Doc. 00-4232 Filed 2-22-00; 8:45 am]

BILLING CODE 6560-50-P